DEPARTMENT OF AGRICULTURE

Forest Service

Kootenai National Forest; Buckhorn Planning Subunit; Lincoln County, Montana; Environmental Impact Statement

AGENCY: Forest Service, USDA.

ACTION: Notice of intent to prepare an environmental impact statement.

SUMMARY: The Forest Service will prepare an Environmental Impact Statement (EIS) to disclose the environmental effects of commercial and non-commercial vegetation management activities, prescribed burning, and watershed improvement activities. Access management changes and other design features are included to protect resources and facilitate management activities. The project is located in the Buckhorn Planning Subunit on the Three Rivers Ranger District, Kootenai National Forest, Lincoln County, Montana, and north of Troy, Montana.

DATES: Comments concerning the scope of the analysis must be received within 30 days from the date of publication in the Federal Register.

ADDRESSES: Send written comments to Kirsten Kaiser; District Ranger, Three Rivers Ranger District, 12858 US Hwy 2, Troy, MT 59935. Comments may also be sent via email to comments-northern-kootenai-three-rivers@fs.fed.us; or via facsimile to (406) 295-7410.

FOR FURTHER INFORMATION CONTACT: Contact Pat Shira, Project Team Leader, Three Rivers Ranger District, 12858 US Hwy 2, Troy, MT 59935. Phone: (406) 295-4693. Individuals who use telecommunication devices for the deaf (TDD) may call the Federal Information Relay Service (FIRS) at 1-800-877-8339 between 8 a.m. and 8 p.m., Eastern Time, Monday through Friday.

SUPPLEMENTARY INFORMATION: The project area is approximately 56,000 acres in size and is located about 27 miles north of Troy, Montana in the Yaak River Valley and includes the following drainages: Spread Creek, Hellroaring Creek, and Meadow Creek. The legal description includes Townships 35 and 36 North, Ranges 34 and 33 West, Lincoln County, Montana; and Township 64 North, Range 3 East, Boundary County, Idaho.

Purpose and Need for Action

The purpose and need for this project is: (1) Promote resilient vegetation conditions by managing towards charactertic landscape-level vegetation patterns, structure, patch size, fuel loading and species composition; (2) maintain or improve water quality and native aquatic species habitat; and, (3) provide wood products to contribute to local and regional economies.

Proposed Action

The proposed action includes timber harvest and associated fuels treatments, prescribed burning and watershed work to address the purpose and need. The proposed action includes:

(1) Approximately 1,300 acres of regeneration harvest that would initially produce foraging opportunities for wildlife species including big game and grizzly bear, which would transition into seedling and pole sized stands that provide young forest habitat before the stands further develop mature forest characteristics. Grouping of some units would create large areas of openings within a matrix of leave areas to mimic a stand replacing fire. There are nine units proposed that would create openings larger than 40 acres and requires a 60-day public review and Regional Forester approval (FSM 2471.1). This notice serves as the beginning of the 60-day public review. The largest of these treatment units would be approximately 280 acres. The openings are designed to provide no greater than 600 feet distance to cover for grizzly bear and big game species. All riparian areas will be identified by the Interdisciplinary Team and excluded from harvest units. Approximately 414 acres are proposed for treatments within the Wildland Urban Interface (WUI).

(2) About 94 acres of intermediate harvest is proposed to improve stand conditions and increase huckleberry growth in the understory.

(3) In an effort to return fire to the landscape and promote increased huckleberry growth and foraging opportunities, approximately 12,127 acres of prescribed burning is being proposed with up to 17,793 acres considered as part of the maximum allowable burn area. Approximately 1,096 acres of burning will occur in the Wildland Urban Interface (WUI). Approximately 7,195 acres of this burning will occur within two Inventoried Roadless Areas (IRAs) located in and adjacent to the project area. To achieve burn objectives of reducing canopy cover in portions of the proposed burn units, hand slashing would occur within the IRAs to create a fuel bed which helps carry fire through the burn area and meet objectives. In areas of suitable whitebark pine habitat, slashing of other encroaching conifers around existing live whitebark pine may occur before burning. Whitebark pine seedlings may be planted after the burns are completed. Whitebark pine is listed as a sensitive species in Region One and is a Candidate species for listing as threatened under the endangered species act (ESA). The US Fish and Wildlife Service found that whitebark pine is “warranted but precluded” from listing at this time.

(4) It is estimated that two temporary roads, totaling 0.7 miles would be constructed to accomplish the timber harvest and associated fuel reduction work and would be obliterated following activities. Approximately 26 miles of haul routes would receive Best Management Practices (BMPs) and road maintenance work to meet State BMP requirements for water quality.

(5) Approximately 28 miles of road have been identified for stabilization to reduce the potential for sediment delivery to streams. This work includes, but is not limited to the removal of culverts, removal of log stream crossing structures, water bars and removing unstable fill material. A Travel Analysis has been completed for the Project Area. Roads identified in the Travel Analysis, as needed for long-term management of the National Forest would be put into intermittent stored service. Roads identified in the Travel Analysis, as not needed for long-term management would be decommissioned. All road decommissioning and intermittent stored services work is proposed on roads currently closed to motor vehicle access. Coordination with recreational users (snowmobilers, mountain bikers, hikers and stock users) would be ongoing through analysis and implementation to maintain popular access routes.

Possible Alternatives

The Forest Service will consider a range of alternatives. One of these will be the “no action” alternative in which none of the proposed action would be implemented. Additional alternatives may be included in response to issues raised by the public during the scoping process or due to additional concerns for resource values identified by the Interdisciplinary Team.

Responsible Official

The Forest Supervisor of the Kootenai National Forest, 31374 US Highway 2, Libby, MT 59923-3022, is the Responsible Official. As the Responsible Official, I will decide if the proposed action will be implemented. I will document the decision and rationale for the decision in the Record of Decision. I have delegated the responsibility for preparing the DEIS and FEIS to the District Ranger, Three Rivers Ranger District.

Nature of Decision To Be Made

Based on the purpose and need, the Responsible Official reviews the proposed action, the other alternatives, the environmental consequences, and public comments on the analysis in order to make the following decision:

(1) Whether to implement timber harvest and associated fuels treatments, prescribed burning, and watershed work, including the design features and potential mitigation measures to protect resources; and if so, how much and at what specific locations;

(2) What, if any, specific project monitoring requirements are needed to assure design features and potential mitigation measures are implemented and effective, and to evaluate the success of the project objectives. Preliminary project monitoring needs identified include pre- and post-treatment huckleberry production, effectiveness of BMP work, and retention of coarse woody debris. A project specific monitoring plan will be developed.

Preliminary Issues

Initial analysis by the Interdisciplinary Team has brought forward two issues that may affect the design of the project.

(1) There are nine units proposed that would create openings larger than 40 acres. This action requires a 60 day public review and Regional Forester approval (FSM 2471.1) This document serves as the beginning of the 60 day public review period.

(2) Based on the nine units proposed that would create openings larger than 40 acres, a site-specific Forest Plan amendment for MA 12 (big game summer range) may be required for Wildlife Standard 7, Forest Plan page III-49, which states that generally harvest unit size should not exceed 40 acres in elk and mule deer habitat or 20 acres in size for moose and whitetail deer habitat. Potentially, maintaining two sight distances between openings as movement corridors for wildlife may also be an issue. The larger openings are designed to mimic the effects of a stand replacing fire and to meet the purpose and need for the project.

Scoping Process

This notice of intent initiates the scoping process, which guides the development of the environmental impact statement. The Interdisciplinary Team will continue to seek information, comments, and assistance from Federal, State, and local agencies, Tribal governments, and other individuals or organizations that may be interested in, or affected by, the proposed action. There are several collaborative groups in the area that the Interdisciplinary Team will interact with during the analysis process.

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered, however.

Dated: January 24, 2013.
Paul Bradford,
Forest Supervisor, Kootenai National Forest.

[FR Doc. 2013-02418 Filed 2-4-13; 8:45 am]

BILLING CODE P